DEPARTMENT OF TRANSPORTATION

Federal Aviation Administration

Tenth Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held June 19-21, 2007 from 9-5 p.m.

ADDRESSES: The meeting will be held at RTCA, Inc., 1828 L Street, NW., Suite 805 Washington, DC 20036. Point of Contact: Rudy Ruana; Telephone: 202-833-9339; e-mail: rruana@rtca.org

Note: Dress is Business Casual.

FOR FURTHER INFORMATION CONTACT: (1) RTCA Secretariat, 1828 L Street, NW., Suite 805, Washington, DC, 20036; telephone (202) 833-9339; fax (202) 833-9434; Web site: http://www.rtca.org.

SUPPLEMENTARY INFORMATION: Pursuant to section 10(a)(2) of the Federal Advisory Committee Act (Pub. L. 92-463, 5 U.S.C., Appendix 2), notice is hereby given for a Special Committee 203 meeting. The agenda will include:

• June 19:

• Opening Plenary Session (Welcome and Introductory Remarks, Approval of Ninth Plenary Summary).

• Review SC-203 Progress Since

• Presentations to the Plenary.

• Workgroup 1: Work Plan; boundary Setting; Human Factors Key Consideration.

• Workgroup 2: UAS Contro and Communications Link Spectrum Consideration: UAS Control and Communications Link Security Considerations.

• Workgroup 3: Sensor Capabilities Overview; DSA Safety Metrics.

• Plenary Adjourns.

• Workgroups 1,2, and 3 Breakout.

• June 20.

• Workgroups 1, 2, and 3 Breakouts.

• June 21:

• Workgroups 1, 2, and 3 Breakouts.

• Plenary Reconvenes.

• Closing Plenary Session (Action Item Review, Other Business, Date, Place and Time of Next Plenary, Adjourn).

Attendance is open to the interested public but limited to space availability. With the approval of the chairmen, members of the public may present oral statements at the meeting. Persons wishing to present statements or obtain information should contact the person listed in the FOR FURTHER INFORMATION CONTACT SECTION. Members of the public may present a written statement to the committee at any time.

Dated: Issued in Washington, DC, on May 21, 2007.
Francisco Estrada C.
RTCA Advisory Committee.

[FR Doc. 07-2646 Filed 5-25-07; 8:45 am]

BILLING CODE 4910-13-M